Title 3—

The President

Proclamation 8617 of December 17, 2010

Wright Brothers Day, 2010

By the President of the United States of America

A Proclamation

On December 17, 1903, after years of determination and creativity, Orville and Wilbur Wright’s wooden aircraft sailed the steady winds of Kitty Hawk, North Carolina and conquered the age-old dream of manned flight. That day, the two brothers from Dayton, Ohio, could only imagine what we now know—that those moments aloft in the North Carolina sky would send mankind on a revolutionary journey and modernize transportation. On this day, we celebrate their historic accomplishment, the limitless potential they represent, and the vision they spurred for the next generation of inventors and entrepreneurs.

The Wright brothers’ monumental achievement solidified their place in history and earned them status as American and global icons. They moved aviation from a curiosity into an indispensable global industry. Self-taught and relentless in their years of work and experimentation, these brothers were a shining illustration of the limitless capacity of human intellect and the resourcefulness of the American entrepreneur. As part of an era of great visionaries, Orville and Wilbur Wright helped hasten an age of discovery and great technological advancement. Their unyielding pursuit of powered flight stands as a proud example for young and curious minds eager to transform and advance the world around them.

Just as the Wright brothers’ breakthrough led to a new industry that forever altered our world, a new generation of space pioneers is now following in their footsteps and setting our Nation’s sights even higher. Working with the National Aeronautics and Space Administration and the Federal Aviation Administration, leaders in spaceflight are making great progress in ushering in a new commercial space industry that can help boost our economy, create new jobs, and take Americans to soaring new heights.

America’s long history of technological leadership and innovation has been the product of learning and ingenuity. To maintain this tradition and propel it forward, America must empower the next generation of doers and makers. We must ensure our Nation’s students receive the world-class mathematics and science education they need to challenge the boundaries of human knowledge and realize tomorrow what we can only dream today. We must also ready our children to become the entrepreneurs whose tenacity and creativity will power the engine of our Nation’s economy for centuries to come. On Wright Brothers Day, in remembrance of that celebrated flight, let us recommit to preparing the next generation of scientists, engineers, inventors, and entrepreneurs to create a future of promise and progress.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2010, as Wright Brothers Day.

IN WITNESS WHEREOF, I have hereunto set my hand this seventeenth day of December, in the year of our Lord two thousand ten, and of the Independence of the United States of America the two hundred and thirty-fifth.

[FR Doc. 2010-32402

Filed 12-21-10; 11:15 am]

Billing code 3195-W1-P